DEPARTMENT OF ENERGY

Federal Energy Regulatory Commission

[Docket Nos. CP02-116-000 and CP02-117-000]

Tennessee Gas Pipeline Company; Notice of Applications

March 27, 2002.

Take notice that on March 18, 2002, Tennessee Gas Pipeline Company (Tennessee), Nine E. Greenway Plaza, Houston, Texas 77046, filed in Docket Nos. CP02-116-000 and CP02-117-000 applications pursuant to section 7(c) and section 3 of the Natural Gas Act (NGA) and Parts 157 and 153 of the Commission's regulations for: a certificate of public convenience and necessity authorizing the construction and operation of certain pipeline facilities, referred to as the South Texas Expansion Project, and Section 3 authorization pursuant NGA and a Presidential Permit pursuant to Executive Order No. 10485, as amended by Executive Order No. 12038, to site, construct, operate, connect, and maintain facilities at the International Boundary between the United States and Mexico for the import and export of up to 320,000 Dth/d of natural gas between Hidalgo, County, Texas and the State of Tamaulipas, Mexico, all as more fully set forth in the application. Copies of this filing are on file with the Commission and are available for public inspection. This filing may also be viewed on the web at http://www.ferc.gov using the “RIMS” link, select “Docket #” and follow the instructions (call 202-208-2222 for assistance).

Specifically, Tennessee proposes to construct, in Hidalgo County, Texas, a 9.28-mile, 30-inch diameter lateral (Rio Bravo Lateral) from Tennessee's Pipeline No. 409A-100 (Donna Line) to the border crossing. A measurement facility will be constructed at the intersection of the Rio Bravo Lateral and the border crossing facilities. In addition, Tennessee proposes to construct, all in Hidalgo County, 7.58 miles of 24-inch pipeline loop adjacent to the existing Donna Line, and a new compressor station consisting of 9,470 horsepower near the town of Edinburg. The project also includes modifications of Tennessee's existing Compressor Station 1, in Nueces County, Texas, and Station 9 in Victoria County, Texas to accommodate bi-directional flow through the stations. The proposed border crossing facilities consist of 1000 feet of 30-inch pipeline extending from the Rio Bravo Lateral to the midpoint of the Rio Grande River for interconnection with Gasoducto del Rio's facilities. The total estimated cost of the proposed project is estimated to be $39.8 million. Tennessee requests authorization no later than December 23, 2002.

Tennessee states that natural gas is required to fuel four electric power generation plants located in the Northern Mexico Municipalities of Rio Bravo and Valle Hermoso, Tamaulipas. Two of the plants are currently receiving service from Pemex Gas y Petroquimica Basica, but, Tennessee states that its project will be the only source of gas supply for the other two plants, one scheduled to be ready for commercial operation on April 1, 2004, and the last on April 1, 2005.

Tennessee states that it has executed binding, 15-year precedent agreements with MGI Supply, Ltd. For 130,000 Dth/d beginning June 1, 2003, El Paso Merchant Energy, LP for 95,000 Dth/d beginning April 1, 2004, and EDF International for 95,000 Dth/d beginning April 1, 2005. The shippers elected to pay negotiated rates consisting of a reservation charge of $0.0975 per Dth/d, fixed for the primary term of the agreement, and a commodity rate ranging from $0.005 to $0.050 per Dth, depending on the receipt and delivery points and the year in the life of the contract. The negotiated rates include all applicable surcharges and fuel and loss percentages. The recourse rate is the maximum applicable rate under Tennessee's Rate Schedule FT-A. Tennessee states that it is not seeking a predetermination in favor of rolled-in rate treatment, but believes that rolled-in rate treatment is appropriate because revenues will exceed the incremental cost of service in all but the first year of service.

Tennessee notes several differences between the project's transportation agreements and Tennessee's pro forma FT-A transportation agreement having to do with contemplating the construction of necessary facilities, the commencement date for service, the need for necessary authorizations, and the superceding and cancellation of the precedent agreements. In addition, Article XV of the MGI Supply Ltd. transportation agreement contains differing provisions concerning choice of law requiring that any dispute which cannot be resolved informally and which is not subject to the Commission's exclusive jurisdiction must be submitted to and resolved by binding arbitration. Tennessee submits that these differences do not constitute material deviations and that the project transportation agreements are not non-conforming agreements. If, however, the Commission finds otherwise, Tennessee requests that the Commission pre-approve the project transportation agreements.

Any questions concerning this application may be directed to Marguerite Woung-Chapman, General Counsel., Tennessee Pipeline Company, Nine E. Greenway Plaza, Suite 740, Houston, Texas 77046, call (832) 676-7329, fax (832) 676-1733.

There are two ways to become involved in the Commission's review of this project. First, any person wishing to obtain legal status by becoming a party to the proceedings for this project should, on or before April 17, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-7889 Filed 3-29-02; 8:45 am]

BILLING CODE 6717-01-P